ENVIRONMENTAL PROTECTION AGENCY

40 CFR Parts 60 and 63

[OAR-2003-0074; FRL-7991-2]

RIN 2060-AG21

Performance Specification 16 for Predictive Emission Monitoring Systems and Amendments to Testing and Monitoring Provisions

AGENCY: Environmental Protection Agency (EPA).

ACTION: Proposed rule; reopening of comment period.

SUMMARY: This action reopens the public comment period for the action entitled “Performance Specification 16 for Predictive Emission Monitoring Systems and Amendments to Testing and Monitoring Provisions” that was proposed in the Federal Register on August 8, 2005 (70 FR 45608). The 60-day comment period in the proposal ended October 8, 2005. The comment period is being reopened for two weeks, from November 2-16, 2005. A public commenter requested that the comment period be reopened to allow them to prepare their response since they are a leading vendor of predictive emission monitoring systems and are significantly impacted by the rule. The intended effect of this action is to allow the affected public sufficient time to review and comment on the proposed action.

DATES: Comments: The comment period is reopened for two weeks, from November 2-16, 2005. Comments must be received during this two week period.

ADDRESSES: Comments. You may submit comments electronically, by mail, by facsimile, or through hand delivery/courier. To ensure proper receipt by EPA, identify the appropriate docket identification number in the subject line on the first page of your comment. Please ensure that your comments are submitted within the specified comment period. Comments received after the close of the comment period will be marked “late.” The EPA is not required to consider these late comments. However, late comments may be considered if time permits.

1. Electronically. If you submit an electronic comment as prescribed below, EPA recommends that you include your name, mailing address, and an e-mail address or other contact information in the body of your comment. Also include this contact information on the outside of any disk or CD ROM you submit and in any cover letter accompanying the disk or CD ROM. This ensures that you can be identified as the submitter of the comment and allows EPA to contact you in case EPA cannot read your comment due to technical difficulties or needs further information on the substance of your comment. The EPA's policy is that EPA will not edit your comment, and any identifying or contact information provided in the body of a comment will be included as part of the comment that is placed in the official public docket and made available in EPA's electronic public docket. If EPA cannot read your comment due to technical difficulties and cannot contact you for clarification, EPA may not be able to consider your comment.

i. EDOCKET. Your use of EPA's electronic public docket to submit comments to EPA electronically is EPA's preferred method for receiving comments. Go directly to EDOCKET at http://www.epa.gov/edocket, and follow the online instructions for submitting comments. To access EPA's electronic public docket from the EPA Internet Home Page, select “Information Sources,” “Dockets,” and “EDOCKET.” Once in the system, select “search,” and then key in Docket ID No. OAR-2003-0074. The system is an “anonymous access” system, which means EPA will not know your identity, e-mail address, or other contact information unless you provide it in the body of your comment.

ii. http://www.regulations.gov. Electronic comments may also be sent through the federal wide eRulemaking Web site at http://www.regulations.gov.

iii. E-mail. Comments may be sent by electronic mail (e-mail) to a-and-r-docket@epamail.gov, Attention: Docket ID No. OAR-2003-0074. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket and made available in EPA's electronic public docket.

iv. Disk or CD ROM. You may submit comments on a disk or CD ROM that you mail to the mailing address identified in Unit I.C.2. These electronic submissions will be accepted in WordPerfect or ASCII file format. Avoid the use of special characters and any form of encryption.

2. By Mail. Send duplicate copies of your comments to: “Performance Specification 16 for Predictive Emission Monitoring Systems,” Environmental Protection Agency, Mail Code 6102T, 1200 Pennsylvania Ave., NW., Washington, DC 20460, Attention: Docket ID No. OAR-2003-0074.

3. By Hand Delivery or Courier. Deliver your comments to: EPA Docket Centers, EPA West, Room 108, 1301 Constitution Ave., NW., Washington, DC 20460, Attention: Docket ID No. OAR-2003-0074. Such deliveries are only accepted during the Docket's normal hours of operation as identified in Unit I.B.1.

4. By Facsimile. Fax your comments to: 202-566-1741, Attention: Docket ID. No. OAR-2003-0074.

Docket. Docket No. OAR-2003-0074, contains information relevant to this rule. You can read and copy it between 8:30 a.m. and 5:30 p.m., Monday through Friday, (except for Federal holidays), at the U.S. Environmental Protection Agency, EPA Docket Center, EPA West, Room 108, 1301 Constitution Ave., Washington, DC 20004; telephone (202) 566-1742. The docket office may charge a reasonable fee for copying.

FOR FURTHER INFORMATION CONTACT: Foston Curtis, Emissions Measurement Center, Mail Code D205-02, Emissions, Monitoring, and Analysis Division, U.S. Environmental Protection Agency, Research Triangle Park, North Carolina 27711; telephone (919) 541-1063; facsimile number (919) 541-0516; electronic mail address curtis.foston@epa.gov.

List of Subjects

40 CFR Part 60

Environmental protection, Administrative practice and procedures, Intergovernmental relations, Reporting and recordkeeping requirements.

40 CFR Part 63

Environmental protection, Hazardous substances, Intergovernmental relations, Reporting and recordkeeping requirements.

Dated: October 25, 2005.
William L. Wehrum,
Acting Assistant Administrator, Office of Air and Radiation.

[FR Doc. 05-21755 Filed 10-31-05; 8:45 am]

BILLING CODE 6560-50-P